DEPARTMENT OF COMMERCE

National Oceanic and Atmospheric Administration

RIN 0648-XU58

Western Pacific Fishery Management Council; Public Meetings

AGENCY: National Marine Fisheries Service (NMFS), National Oceanic and Atmospheric Administration (NOAA), Commerce.

ACTION: Amendment to notice of public meetings and hearings published in Federal Register, February 25, 2010.

SUMMARY: The Western Pacific Fishery Management Council (Council) has included an additional action item to be considered at its 147th meeting.

DATES: The 147th Council meeting to be held March 21-26, 2010. For specific times and agendas, see SUPPLEMENTARY INFORMATION.

ADDRESSES: The 147th Council meeting will be held at the Fiesta Resort and Spa on Saipan and at the Guam Hilton on Guam.

FOR FURTHER INFORMATION CONTACT: Kitty M. Simonds, Executive Director; telephone: (808) 522-8220.

SUPPLEMENTARY INFORMATION: In addition to the agenda item listed here, the Council will hear recommendations from Council advisory groups. Public comment period will be provided. The order in which agenda items are addressed may change. The meetings will run as late as necessary to complete scheduled business. The schedule for additional agenda item to be considered is listed here. All other information listed in the original document published at 75 FR 8674, February 25, 2010, has not been modified.

147th Council Meeting, Guam Hilton, Guam

Thursday, March 25, 2010 9 a.m.-5 p.m.

14. Pelagic & International Fisheries

A. Action Items

4. Highly Migratory Species Memorandum of Understanding

Non-Emergency issues not contained in this agenda may come before the Council for discussion and formal Council action during its 147th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808)522-8220 (voice) or (808)522-8226 (fax), at least five days prior to the meeting date.

Authority: 16 U.S.C. 1801 et seq.

Dated: March 1, 2010.
Tracey L. Thompson,
Acting Director, Office of Sustainable Fisheries, National Marine Fisheries Service.

[FR Doc. 2010-4500 Filed 3-3-10; 8:45 am]

BILLING CODE 3510-22-S